DEPARTMENT OF TRANSPORTATION

Federal Motor Carrier Safety Administration

[Docket No. FMCSA-2007-0083]

Agency Information Collection Activities; Extension of a Currently Approved Information Collection: Transportation of Hazardous Materials, Highway Routing

AGENCY: Federal Motor Carrier Safety Administration (FMCSA), DOT.

ACTION: Notice and request for information.

SUMMARY: In accordance with the Paperwork Reduction Act of 1995, FMCSA announces its plan to submit the Information Collection Request (ICR) described below to the Office of Management and Budget (OMB) for review and approval. The FMCSA requests approval to extend an existing information collection entitled “Transportation of Hazardous Materials, Highway Routing,” which requires States and Indian tribes to identify designated/restricted routes and restrictions or limitations affecting how motor carriers may transport certain hazardous materials on the highway. On October 30, 2007, FMCSA published a Federal Register notice allowing for a 60-day comment period on the ICR. No comment was received.

DATES: Please send your comments by February 4, 2008. OMB must receive your comments by this date in order to act quickly on the ICR.

ADDRESSES: All comments should reference DOT Docket No. FMCSA-2007-0083. You may submit comments to the Office of Information and Regulatory Affairs, Office of Management and Budget, 725 Seventeenth Street, NW., Washington, DC 20503, Attention: DOT/FMCSA Desk Officer.

FOR FURTHER INFORMATION CONTACT: Mr. James O. Simmons, Hazardous Materials Division, phone (202) 366-6121; FAX (202) 366-3921; or e-mail james.simmons@dot.gov; Federal Motor Carrier Safety Administration, DOT, 1200 New Jersey Avenue, SE., Washington, DC 20590. Office hours are from 8 a.m. to 4:30 p.m. EST, Monday through Friday, except Federal Holidays.

SUPPLEMENTARY INFORMATION:

Title: Transportation of Hazardous Materials, Highway Routing.

OMB Control Number: 2126-0014.

Type of Request: Extension of a currently approved information collection.

Respondents: The reporting burden is shared by the 50 States, the District of Columbia, Puerto Rico, American Samoa, Guam, Northern Marianas, and the Virgin Islands.

Estimated Number of Respondents: 53.

Estimated Time per Response: 15 minutes.

Expiration Date: February 28, 2007.

Frequency of Response: There is one response annually from approximately 53 respondents.

Estimated Total Annual Burden: 13 hours [53 respondents × 1 response × 15 minutes per response/60 minutes = 13.25 hours, rounded to 13 hours].

Background: The data for the Transportation of Hazardous Materials; Highway Routing designations are collected under authority of 49 U.S.C. 5112 and 5125. That authority places responsibility on the Secretary of Transportation (Secretary) to specify and regulate standards for establishing, maintaining, and enforcing routing designations.

Under 49 CFR 397.73, the Administrator has the authority to request that each State and Indian tribe, through its routing agency, provide information identifying hazardous materials routing designations within their jurisdictions. That information is collected and consolidated by the FMCSA and published annually in whole, or as updates, in the Federal Register.

Public Comments Invited: You are asked to comment on any aspect of this information collection, including: (1) Whether the proposed collection is necessary for the performance of FMCSA's functions; (2) the accuracy of the estimated burden; (3) ways for the FMCSA to enhance the quality, usefulness, and clarity of the collected information; and (4) ways that the burden could be minimized without reducing the quality of the collected information.

Issued on: December 18, 2007.
Terry Shelton,
Associate Administrator for Research and Information Technology.

[FR Doc. E7-25579 Filed 1-2-08; 8:45 am]

BILLING CODE 4910-EX-P